DEPARTMENT OF COMMERCE

Foreign-Trade Zones Board

[Docket B-58-2013]

Foreign-Trade Zone (FTZ) 83—Huntsville, Alabama; Application for Production Authority, Toray Carbon Fibers America, Inc., Opening of Comment Period on New Evidence

An application has been submitted to the Foreign-Trade Zones Board by the Huntsville-Madison County Airport Authority, grantee of FTZ 83, requesting production authority on behalf of Toray Carbon Fibers America, Inc. (Toray), located in Decatur, Alabama. Toray is requesting authority to produce polyacrylonitrile (PAN) fiber and PAN-based carbon fiber under FTZ procedures. The Toray facility produces carbon fiber from both proprietary, domestically-produced PAN and foreign-sourced PAN.

On March 7, 2014, Toray made a submission to the FTZ Board that included new evidence in response to the examiner's preliminary recommendation for approval with a restriction requiring re-export of all foreign-status PAN. Public comment is invited on Toray's new evidence through April 21, 2014. Rebuttal comments may be submitted during the subsequent 15-day period, until May 5, 2014. Submissions shall be addressed to the FTZ Board's Executive Secretary at: Foreign-Trade Zones Board, U.S. Department of Commerce, Room 21013, 1401 Constitution Ave. NW., Washington, DC 20230.

A copy of Toray's March 7, 2014, submission will be available for public inspection at the address above, and in the “Reading Room” section of the FTZ Board's Web site, which is accessible via www.trade.gov/ftz.

For further information, contact Diane Finver at Diane.Finver@trade.gov or (202) 482-1367.

Dated: March 14, 2014.
Andrew McGilvray,
Executive Secretary.

[FR Doc. 2014-06252 Filed 3-20-14; 8:45 am]

BILLING CODE 3510-DS-P